DEPARTMENT OF TRANSPORTATION

Federal Railroad Administration

[Docket Number FRA-2010-0100]

Petition for Waiver of Compliance

In accordance with Part 211 of Title 49 of the Code of Federal Regulations (CFR), this document provides the public notice that by a document dated April 29, 2011, the Brownsville & Rio Grande International Railroad (BRG) has petitioned the Federal Railroad Administration (FRA) for a modification to its waiver of compliance from certain provisions of the Federal railroad safety regulations contained at 49 CFR parts 232 and 215. FRA assigned the petition Docket Number FRA-2010-0100.

BRG seeks a modification to its waiver of compliance with certain requirements of 49 CFR part 232, Brake System Safety Standards for Freight and Other Non-Passenger Trains and Equipment; End-of-Train Devices and 49 CFR part 215, Railroad Freight Car Safety Standards. Presently, BRG's relief permits trains transferred by Union Pacific Railroad (UP) (under Waiver Petition Docket Number FRA-2007-28340 from the U.S./Mexico border interchange with the Kansas City Southern De Mexico Railway (KCSM) at Brownsville, Texas) to move from BRG's interchange point with UP at Milepost (MP) 4.48 to the BRG inspection point between MP 8.0 and MP 9.0, where required FRA inspections are performed. Occasionally, trains destined for interchange to BRG are delayed at UP's Olmito Yard by additional Federal agency inspection activities. BRG petitions for a modification to its present relief to allow the railroad to pick up trains at Olmito Yard (in lieu of the interchange point at MP 4.48). On those occasions, BRG would continue to perform the required FRA inspections between MP 8.0 and MP 9.0 in accordance with its present relief under FRA-2010-0100.

A copy of the petition, as well as any written communications concerning the petition, is available for review online at http://www.regulations.gov and in person at the U.S. Department of Transportation's (DOT) Docket Operations Facility, 1200 New Jersey Ave., SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal Holidays.

Communications received by October 31, 2011 will be considered by FRA before final action is taken. Comments received after that date will be considered as far as practicable.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78), or online at http://www.dot.gov/privacy.html.

Issued in Washington, DC, on September 13, 2011.
Robert C. Lauby,
Deputy Associate Administrator for Regulatory and Legislative Operations.

[FR Doc. 2011-23829 Filed 9-15-11; 8:45 am]

BILLING CODE 4910-06-P